DEPARTMENT OF THE INTERIOR

National Park Service

Finding of No Significant Impact and Notice of Decision for the Placement of Wireless Telecommunication Facility for Bell Atlantic Mobile (Verizon Wireless) at the Ridge Trail Site in Great Falls Park, Virginia

AGENCY: National Park Service, Interior.

ACTION: Availability of the Finding of No Significant Impact (FONSI) And Notice of Decision for the Placement of Wireless Telecommunication Facility for Bell Atlantic Mobile (Verizon Wireless) at the Ridge Trail Site in Great Falls Park, Virginia.

SUMMARY: Pursuant to the Council on Environmental Quality Regulations and National Park Service Policy, the National Park Service (NPS) announces the availability of a Finding of No Significant Impact (FONSI) And Notice of Decision for the placement of a wireless telecommunication facility for Verizon Wireless at the Ridge Trail site in Great Falls Park, Virginia. Great Falls Park is a unit of the George Washington Memorial Parkway (GWMP). The Final Environmental Assessment includes several alternatives showing a monopole at different heights, different building sizes and an alternative technology. The alternative of a facility no higher than 126 feet disguised as a “tree” with limited ground level support structures was chosen after review of public comments from two public hearings and from written comments. This alternative provides increased service for the applicant to meet the needs of its customers while minimizing the visual impacts from various locations along the Potomac River near Great Falls in both Virginia and Maryland including the Chesapeake and Ohio Canal National Historical Park and the GWMP. It also mitigates any impact to historic resources at the site of the facility. This action will lead to the issuance of a Right-of-Way permit to Verizon Wireless. Along with the tower and the support buildings, the permit will provide for improvements to a portion of the Ridge Trail, for the purposes of construction and maintenance activities associated with the wireless communications facility. If certain lights are required for aircraft navigation, Verizon Wireless will be required to develop and install a mechanism that will allow the USPP and other law enforcement agencies to activate the light when needed for rescue operations. If it is not possible, or regulatory agencies do not allow this mechanism for the light to be controlled, the height of the tower will be lowered to tree canopy height (approximately 100 feet) where it will not be as visible and will not interfere with aircraft flights. If technological advances result in the capability of the applicant to provide this service to customers without the dedication and use of public lands, all facilities will be removed and the lands restored to the satisfaction of the NPS. This action is effective on the date of signature; however, there are reviews by various agencies, either required or recommended, that may alter the final design appearance of the facility. Regardless of those reviews and revisions, the height will not be greater than 126 feet, the support buildings will not rise higher than 20 feet above grade, and the land taken by the perimeter fence and all structures will not exceed 2,000 square feet.

DATES: The FONSI and Notice of Decision was signed by the National Capital Regional Director on August 30, 2000.

ADDRESSES: Copies of the FONSI, Notice of Decision and the Final Environmental Assessment will be available for public inspection at GWMP Headquarters, Turkey Run Park, McLean, VA, Monday through Friday, 8:00 a.m. to 4:00 p.m.; and at Great Falls Park Visitor Center on weekdays from 10 a.m. to 5 p.m. and on weekends from 10 a.m. to 6pm. An electronic copy will be available on the Great Falls Park website: http://www.nps.gov/gwmp/GRFA EA/grfa ea title.htm. A limited number of copies are also available upon request by contacting George Washington Memorial Parkway at (703) 289-2500.

SUPPLEMENTARY INFORMATION: Bell Atlantic Mobile (Verizon Wireless) proposed to construct a telecommunications facility.

FOR FURTHER INFORMATION CONTACT: Ron Blain at (703) 289-2516.

Wandafa B. Hollingsworth,
Acting Superintendent, George Washington Memorial Parkway.

[FR Doc. 00-25286 Filed 10-2-00; 8:45 am]

BILLING CODE 4310-70-P